DEPARTMENT OF HEALTH AND HUMAN SERVICES

Centers for Disease Control and Prevention

The Board of Scientific Counselors, National Center for Environmental Health/Agency for Toxic Substances and Disease Registry

In accordance with section 10(a)(2) of the Federal Advisory Committee Act (Pub. L. 92-463), the Centers for Disease Control and Prevention (CDC) and the Agency for Toxic Substances Disease Registry (ATSDR) announce the following committee meeting.

Name: Board of Scientific Counselors (BSC), National Center for Environmental Health (NCEH)/ATSDR.

Times and Dates: 8:30 a.m.-5 p.m., May 20, 2004. 8:30 a.m.-3:30 p.m., May 21, 2004.

Place: The Century Center Facility, 1825 Century Boulevard, Atlanta, Georgia 30345.

Status: Open to the public for observation, limited only by the space available. The meeting room accommodates approximately 75 people.

Purpose: The Secretary, and by delegation, the Director of the Centers for Disease Control and Prevention and the Administrator of the Agency for Toxic Substances and Disease Registry, are authorized under Section 301(42 U.S.C. 241) and Section 311(42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases and other impairments; (2) assist States and their political subdivisions in the prevention of infectious diseases and other preventable conditions and in the promotion of health and well being; and (3) train State and local personnel in health work.

The Board of Scientific Counselors, NCEH/ATSDR provides advice and guidance to the Secretary, HHS; the Director, CDC; and the Director, NCEH/ATSDR, regarding program goals, objectives, strategies, and priorities in fulfillment of the agencies' mission to protect and promote people's health.

The Board provides advice and guidance that will assist NCEH/ATSDR in ensuring scientific quality, timeliness, utility, and dissemination of results. The Board also provides guidance to help NCEH/ATSDR work more efficiently and effectively with its various constituents and to fulfill its mission in protecting America's health.

Matters To Be Discussed: The agenda items, will include, but are not limited to, an update and discussions on the consolidation of NCEH and ATSDR advisory committees; discussions on peer review proposal plan, the combined research agenda and the Preparedness Workgroup Goals Document; staff will also provide an overview of NCEH/ATSDR strategic directions.

Agenda items are tentative and subject to change.

FOR FURTHER INFORMATION CONTACT: Individuals interested in attending the meeting, please contact Sandra Malcom, Committee Management Specialist, NCEH/ATSDR, 1600 Clifton Road, Mail Stop E-28, Atlanta, Georgia 30303; telephone 404/498-0003, fax 404/498-0059; E-mail: smalcom@cdc.gov. The deadline for notification of attendance is May 14, 2004.

The Director, Management Analysis and Services Office, has been delegated the authority to sign Federal Register notices pertaining to announcements of meetings and other committee management activities for both CDC and the Agency for Toxic Substances and Disease Registry.

Dated: April 30, 2004.
Alvin Hall,
Director, Management Analysis and Services Office, Centers for Disease Control and Prevention.

[FR Doc. 04-10298 Filed 5-5-04; 8:45 am]

BILLING CODE 4163-18-P